DEPARTMENT OF THE INTERIOR

Fish and Wildlife Service

[FWS-R3-ES-2023-N089; FX3ES11130300000-245-FF03E00000]

Endangered and Threatened Wildlife and Plants; Initiation of 5-Year Status Reviews of 16 Listed Animal and Plant Species

AGENCY: Fish and Wildlife Service, Interior.

ACTION: Notice of initiation of reviews; request for information.

SUMMARY: We, the U.S. Fish and Wildlife Service, are initiating 5-year status reviews under the Endangered Species Act, for 3 plant and 13 animal species. A 5-year status review is based on the best scientific and commercial data available at the time of the review; therefore, we are requesting submission of any such information that has become available since the last review for the species. We invite comments from the public and Federal, Tribal, State, and local governments.

DATES: To ensure consideration, please send your written information by March 5, 2024. However, we will continue to accept new information about any listed species at any time.

ADDRESSES: For instructions on how to submit information for each species, see the table in the SUPPLEMENTARY INFORMATION section.

FOR FURTHER INFORMATION CONTACT: To request information on specific species, contact the appropriate person in the table in the SUPPLEMENTARY INFORMATION section or, for general information, contact Laura Ragan, via email at laura_ragan@fws.gov or by phone at 612-713-5157. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We are initiating 5-year status reviews under the Endangered Species Act of 1973, as amended (ESA; 16 U.S.C. 1531 et seq.), for 3 plant and 13 animal species. A 5-year status review is based on the best scientific and commercial data available at the time of the review; therefore, we are requesting submission of any such information that has become available since the last review for the species.

Why do we conduct 5-year reviews?

Under the ESA, we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Our regulations at 50 CFR 424.21 require that we publish a notice in the Federal Register announcing those species under active review. For additional information about 5-year reviews, go to https://www.fws.gov/project/five-year-status-reviews.

What information do we consider in our review?

A 5-year review considers the best scientific and commercial data that have become available since the current listing determination or most recent status review of each species, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the ESA); and

(E) Other new information, data, or corrections, including but not limited to taxonomic or nomenclatural changes, identification of erroneous information contained in the List, and improved analytical methods.

New information will be considered in the 5-year review and ongoing recovery programs for the species.

Which species are under review?

This notice announces our active 5-year status reviews of the species in the following table.

Common name | Scientific name | Taxonomic group | Listing status | Where listed | Final listing rule (Federal Register citation and publication date) | Contact person, email, phone | Contact person's U.S. mail address
Animals
Hine's emerald dragonfly | Somatochlora hineana | Insect | E | IL, MI, MO, WI | 60 FR 5267; January 26, 1995 | Kris Lah, kristopher_lah@fws.gov, 847-366-2347 | USFWS, 230 South Dearborn, Suite 2398, Chicago, IL 60604.
Dakota skipper | Hesperia dacotae | Butterfly | T | IA, IL, MN, ND, SD | 79 FR 63672; October 24, 2014 | Araceli Morales Santos, araceli_moralessantos@fws.gov, 612-352-7969 | USFWS, 3815 American Boulevard East, Bloomington, MN 55425.
Karner blue butterfly | Lycaeides melissa samuelis | Butterfly | E | IL, IN, MI, MN, NH, NY, OH, WI | 57 FR 59236; December 14, 1992 | Dawn Marsh, dawn_marsh@fws.gov, 612-283-8054 | USFWS, 3815 American Boulevard East, Bloomington, MN 55425.
Poweshiek skipperling | Oarisma poweshiek | Butterfly | E | IA, IL, IN, MI, MN, ND, SD, WI | 79 FR 63672; October 24, 2014 | Tamara Smith, tamara_smith@fws.gov, 612-600-1599 | USFWS, 3815 American Boulevard East, Bloomington, MN 55425.
Illinois cave amphipod | Gammarus acherondytes | Crustacean | E | IL | 63 FR 46900; September 3, 1998 | Kristen Lundh, kristen_lundh@fws.gov, 309-757-5800, ext. 215 | USFWS, 1511 47th Avenue, Moline, IL 61265.
Iowa Pleistocene snail | Discus macclintocki | Snail | E | IA, IL | 43 FR 28932; July 3, 1978 | Kraig McPeek, kraig_mcpeek@fws.gov, 309-757-5800, ext. 202 | USFWS, 1511 47th Avenue, Moline, IL 61265.
Pink mucket | Lampsilis abrupta | Mussel | E | AL, AR, GA, IL, IN, KY, LA, MS, MO, OH, TN, VA, WV | 41 FR 24062; June 14, 1976 | Joshua Hundley, joshua_hundley@fws.gov, 573-234-432, ext. 176 | USFWS, 101 Park DeVille Drive, Suite A, Columbia, MO 65203.
Purple cat's paw | Epioblasma obliquata | Mussel | E | KY, OH, TN, WV | 55 FR 28209; July 10, 1990 | Angela Boyer, angela_boyer@fws.gov, 614-416-8993, ext. 122 | USFWS, 4625 Morse Road, Suite 104, Columbus, OH 43230.
Spectaclecase mussel | Cumberlandia monodonta | Mussel | E | AL, AR, IL, IN, IA, KS, KY, MN, MO, OH, TN, VA, WV, WI | 77 FR 14914; March 13, 2012 | Nick Utrup, nick_utrup@fws.gov, 612-600-6122 | USFWS, 3815 American Boulevard East, Bloomington, MN 55425.
Niangua darter | Etheostoma nianguae | Fish | T | MO | 50 FR 24649; June 12, 1985 | Bryan Simmons, bryan_simmons@fws.gov, 417-836-5302 | USFWS, 101 Park DeVille Drive, Suite A, Columbia, MO 65203.
Ozark hellbender | Cryptobranchus alleganiensis bishopi | Amphibian | E | AR, MO | 76 FR 61956; October 6, 2011 | Trisha Crabill, trisha_crabill@fws.gov, 573-234-5016 | USFWS, 101 Park DeVille Drive, Suite A, Columbia, MO 65203.
Piping plover (Great Lakes breeding population) | Charadrius melodus | Bird | E | Great Lakes watershed in IL, IN, MI, MN, NY, OH, PA, WI | 50 FR 50726; December 11, 1985 | Jillian Farkas, jillian_farkas@fws.gov, 517-351-5467 | USFWS, 2651 Coolidge Road, Suite 101, East Lansing, MI 48823.
Piping plover (Atlantic Coast and Northern Great Plains populations) | Charadrius melodus | Bird | T | Entire, except those areas where listed as E, above | 50 FR 50726; December 11, 1985 | Montana, North Dakota, South Dakota, Iowa, Nebraska, Colorado, Kansas, Alberta, Saskatchewan, Manitoba: Jordan Smith, jordan_smith@fws.gov, 605-957-5375 | USFWS, 55245 Highway 121, Crofton, NE 68730.
|  |  |  |  |  | North Carolina, South Carolina, Georgia, Bahamas, Cuba, Puerto Rico, other Caribbean Islands: Melissa Chaplin, melissa_chaplin@fws.gov, 843-727-4707 | USFWS, 176 Croghan Spur Road, Suite 200, Charleston, SC 29407.
|  |  |  |  |  | Florida, Alabama, Mississippi, Louisiana: Patricia Kelly, patricia_kelly@fws.gov, 850-273-4611 | USFWS, 1601 Balboa Avenue, Panama City, FL 32405.
|  |  |  |  |  | Texas and Mexico: Moni Belton, moni_belton@fws.gov, 281-212-1512 | USFWS, 17629 El Camino Real #211, Houston, TX 77058.
|  |  |  |  |  | Maine, New Hampshire, Massachusetts, Rhode Island, Connecticut, New York, New Jersey, Delaware, Maryland, Virginia, Newfoundland, Quebec, Nova Scotia, Prince Edward Island, New Brunswick, and St. Pierre and Miquelon (France), any area not listed above, and information pertinent to multiple regions: Anne Hecht, anne_hecht@fws.gov, 413-575-4031 | USFWS, 73 Weir Hill Road, Sudbury, MA 01776.
Indiana bat | Myotis sodalis | Mammal | E | AL, AR, CT, GA, IL, IN, IA, KY, MD, MI, MS, MO, NJ, NY, NC, OH, OK, PA, TN, VT, VA, WV | 32 FR 4001; March 11, 1967 | Andy King, andrew_king@fws.gov, 812-902-1809 | USFWS, 620 South Walker Street, Bloomington, IN 47403.
Plants
Decurrent false aster | Boltonia decurrens | Plant | T | IL, MO | 53 FR 45858; November 14, 1988 | Kristen Lundh, kristen_lundh@fws.gov, 309-757-5800, ext. 215 | USFWS, 1511 47th Avenue, Moline, IL 61265.
Dwarf lake iris | Iris lacustris | Plant | T | MI, WI | 53 FR 37972; September 28, 1988 | Kaitlyn Kelly, kaitlyn_kelly@fws.gov, 517-351-8315 | USFWS, 2651 Coolidge Road, Suite 101, East Lansing, MI 48823.
Missouri bladderpod | Physaria filiformis | Plant | T | MO | 68 FR 59337; October 15, 2003 | Gabriela Wolf-Gonzalez, gabriela_wolf-gonzalez@fws.gov, 573-234-2132, ext. 116 | USFWS, 101 Park DeVille Drive, Suite A, Columbia, MO 65203.

Request for Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts.

Public Availability of Comments

Before including your address, phone number, email address, or other personal identifying information in your comment, you should be aware that your entire comment—including your personal identifying information—may be made publicly available at any time. While you can ask us in your comment to withhold your personal identifying information from public review, we cannot guarantee that we will be able to do so.

Authority

We publish this notice under the authority of the Endangered Species Act of 1973, as amended (16 U.S.C. 1531 et seq.).

Lori Nordstrom,
Assistant Regional Director, Ecological Services, Midwest Region.

[FR Doc. 2024-00029 Filed 1-4-24; 8:45 am]

BILLING CODE 4333-15-P